DEPARTMENT OF ENERGY

Federal Energy Regulatory Commission

[Docket No. CP17-178-000]

Alaska Gasline Development Corporation; Notice of Technical Conference

Take notice that a technical conference will be held on Thursday, March 22, 2018 at 9:00 a.m., in Room 3M-4 A and B at the Federal Energy Regulatory Commission, 888 First Street NE, Washington, DC 20426.

The technical conference will provide an opportunity for Commission staff and representatives from Alaska Gasline Development Corporation to discuss clarifications on the Commission staff's February 15, 2018 environmental data request for the Alaska LNG Project. While all interested persons and Commission staff are permitted to attend, no comments or statements during the conference will be permitted. Further, there will be no discussion of Critical Energy Infrastructure Information or privileged materials. For further information please contact Jennifer Zielinski at (202) 502-6259 or email jennifer.zielinski@ferc.gov.

Federal Energy Regulatory Commission conferences are accessible under section 508 of the Rehabilitation Act of 1973. For accessibility accommodations please send an email to accessibility@ferc.gov or call toll free (866) 208-3372 (voice) or (202) 502-8659 (TTY), or send a fax to (202) 208-2106 with the required accommodations.

Dated: March 8, 2018.
Nathaniel J. Davis, Sr.,
Deputy Secretary.

[FR Doc. 2018-05095 Filed 3-13-18; 8:45 am]

BILLING CODE 6717-01-P